DEPARTMENT OF LABOR

Employment and Training Administration

[TA-W-58,349]

Joy Technologies, Inc., Dba Joy Mining Machinery, Mt. Vernon Plant, Mt. Vernon, IL; Notice of Termination of Investigation

Pursuant to Section 221 of the Trade Act of 1974, as amended, an investigation was initiated on November 15, 2005, in response to a petition filed by the International Brotherhood of Boilermakers, Iron Ship Builders, Blacksmiths, Forgers and Helpers (IBB), Local 483, on behalf of workers of Joy Technologies, Inc., dba Joy Mining Machinery, Mt. Vernon Plant, Mt. Vernon, Illinois.

The petitioning worker group was denied eligibility to apply for adjustment assistance (TA-W-57,700) on September 15, 2005. The IBB requested administrative reconsideration of that denial and on November 16, 2004, the Department accepted the application for reconsideration. The notice will soon be published in the Federal Register.

Since the petitioning worker group is subject to an ongoing investigation further investigation in this case would serve no purpose, and the investigation has been terminated.

Signed at Washington, DC, this 18th day of November, 2005.
Linda G. Poole,
Certifying Officer, Division of Trade Adjustment Assistance.

[FR Doc. E5-6881 Filed 12-5-05; 8:45 am]

BILLING CODE 4510-30-P